DEPARTMENT OF AGRICULTURE

Natural Resources Conservation Service

[Docket No. NRCS-2023-0002]

Notice of Intent To Prepare an Environmental Impact Statement for the Graveyard Wash Flood Retarding Structure Assessment, Graham County, Arizona

AGENCY: Natural Resources Conservation Service, USDA.

ACTION: Notice of intent (NOI) to prepare an Environmental Impact Statement (EIS).

SUMMARY: The Natural Resources Conservation Service (NRCS) Arizona State Office announces its intent to prepare an EIS for the Graveyard Wash Flood Retarding Structure Assessment located within the Frye Creek—Stockton Wash Watershed in Graham County, Arizona. NRCS will examine alternative solutions through the EIS to bring the Graveyard Wash flood retarding structure (FRS) into compliance with current Federal and State standards. The EIS will also serve as the necessary environmental documentation for any cooperating agencies and contact with potential cooperating agencies will be initiated. NRCS is requesting comments to identify significant issues, potential alternatives, information, and analyses relevant to the Proposed Action from all interested individuals, Federal and State agencies, and Tribes.

DATES: We will consider comments that we receive by March 20, 2023. Comments received after close of comment period will be considered to the extent possible.

ADDRESSES: We invite you to submit comments in response to this notice. You may submit your comments through one of the methods below:

• Federal eRulemaking Portal: Go to https://www.regulations.gov and search for docket ID NRCS-2023-0002. Follow the online instructions for submitting comments; or

• Mail or Hand Delivery: Jones and DeMille Engineering, Attn: Jenna Jorgensen, 1535 S 100 W, Richfield, UT 84701. In your comment, specify the docket ID NRCS-2023-0002.

All comments received will be posted and made publicly available on www.regulations.gov.

FOR FURTHER INFORMATION CONTACT: Greg Wahl; telephone: (928) 864-5533; email: greg.wahl@usda.gov. Individuals who require alternative means for communication should contact USDA Target Center at (202) 720-2600 (voice).

SUPPLEMENTARY INFORMATION:

Purpose and Need

The primary purpose for watershed planning is to preserve flood protection downstream of the Graveyard Wash FRS. Specifically, to reduce the risk of flooding to residences, commercial buildings, schools, the hospital, shopping centers, and agricultural areas, canals and irrigation systems, and transportation corridors (road and railway) in the Frye Creek—Stockton Wash Watershed in Graham County, Arizona. Watershed planning is authorized under the Watershed Protection and Flood Prevention Act of 1954 (Pub. L. 83-566), as amended, and the Flood Control Act of 1944 (Pub. L. 78-534).

Recent assessments indicate that the dam and appurtenances do not meet current NRCS and Arizona Dam Safety standards. Action is needed to bring the dam and spillway facilities into compliance with current standards and to continue to protect property from flooding. Estimated Federal funds required for the construction of the proposed action (described below) would exceed $25 million and the proposed action will therefore require an EIS as specified in 7 CFR 650.7(a)(2).

Preliminary Proposed Action and Alternatives

The Frye Creek—Stockton Wash Watershed-focused planning area is approximately 240 square miles. NRCS will provide technical and financial assistance for the proposed project (described below) through the NRCS Watershed Protection and Flood Prevention Program. NRCS will also design and implement a selected alternative. The EIS is expected to evaluate three alternatives: two action alternatives or no action alternative. The alternatives we intend to carry forward in the analysis are:

Alternative 1—No Action: Taking no action would consist of activities carried out if no Federal action or funding were provided. The sponsor's course of action would be to bring the dam into compliance with Arizona Dam Safety requirements, but not necessarily NRCS standards.

Alternative 2—Full Dam Rehabilitation with Structural Spillway Alternative (Proposed Action). The proposed action is to rehabilitate the dam to maintain flood prevention below the dam and to bring the dam into compliance with NRCS and Arizona Dam Safety standards for a 100-year design life. Rehabilitation will consist of raising the embankment crest and lengthening the embankment to meet minimum design storm requirements. Segments of the embankment with unsuitable soils will be reconstructed. The principal spillway will also be lengthened, which may require reconstruction of the inlet, outlet, or both of the spillway. The existing auxiliary spillway will be replaced with a structural spillway and stilling basin designed to pass minimum design storm requirements and to improve flood protection for the 100-year storm event.

Alternative 3—Full Dam Rehabilitation with Earthen Spillway Alternative. The proposed action is to rehabilitate the dam as described in Alternative 2. The difference will be the existing earthen auxiliary spillway will be reconstructed to a width of 400 feet, regraded, and reinforced as needed to pass minimum design storm requirements and to improve flood protection for the 100-year storm event.

Also, the proposed action that would occur, any cooperating agencies could adopt this EIS as their NEPA.

Summary of Expected Impacts

An NRCS evaluation of this federally assisted action indicates that proposed alternatives may have local, regional, or national impacts on the environment. Potential impacts include flood plain alteration due to the construction of a new dam. Potential realignment of roads or utilities could occur, depending on the chosen alternative. Long-term beneficial impacts will occur with flood protection mitigating loss of life and property within the community. An NRCS evaluation of this federally assisted action indicates that proposed alternatives may trigger NRCS cost share policies when the Federal share of the construction costs exceed $25 million dollars.

Anticipated Permits and Authorizations

The following permits and other authorizations are anticipated to be required:

• CWA Section 404 Permit. Implementation of the proposed Federal action may require a Clean Water Act (CWA) section 404 permit from the U.S. Army Corps of Engineers. Permitting with the U.S. Army Corps of Engineers regarding potential impacts will be finalized prior to final design and construction.

• CWA Section 401 Permit. The project may also require water quality certification under section 401 of the CWA and permitting under Section 402 of the CWA (National Pollutant Discharge Elimination System Permit).

• Dam Safety and Floodplain Permit. Local dam safety and floodplain permits will be required.

• NHPA Section 106 Consultation. Consultation with Tribal Nations and interested parties will be conducted as required by the National Historic Preservation Act of 1966 (as amended) (16 U.S.C. 470f).

• Endangered Species Act (ESA) Consultation. Consultation with the USFWS is being conducted as required by the Endangered Species Act of 1973.

Schedule of Decision-Making Process

A Draft EIS will be prepared and circulated for review and comment by agencies and the public for at least 45 days as required by 40 CFR 1503.1, 1502.20, 1506.11, and 1502.17, and 7 CFR 650.13. The Draft EIS is anticipated to be published in the Federal Register approximately 6 months after publication of this NOI; notices will also be published using local media outlets. A Final EIS is anticipated to be published within 4 months of completion of the public comment period for the Draft EIS.

NRCS will decide whether to implement one of the alternatives as evaluated in the EIS. A Record of Decision will be completed after the required 30-day waiting period and will be publicly available. The responsible Federal official for the NRCS is Keisha Tatem, Arizona State Conservationist.

Public Scoping Process

Public scoping meetings were held virtually on April 20, 2022, when the project was being considered under an Environmental Assessment (EA). Public notice of the project and scoping meetings were distributed widely prior to the meetings. Scoping meeting presentation materials, including a video recording of the meeting, are available on the project website at https://graveyardwash.com/.

The meeting consisted of a presentation on the PL-566 Program,¹ the dam deficiencies, and the NEPA process, and included a question-and-answer session. Public scoping meetings provide an opportunity to review and evaluate the project alternatives, express concern or support, and gain further information regarding the project. Comments received, including the names and addresses of those who comment, will be part of the public record.

¹ NRCS manages the Watershed Protection and Flood Prevention Program (also known as Watershed Operations, Public Law 83-566, or just PL-566.

Identification of Potential Alternatives, Information, and Analyses

NRCS invites agencies, Tribes, and individuals who have special expertise, legal jurisdiction, or interest in the Frye Creek—Stockton Wash Watershed in Graham County, Arizona, to provide comments concerning the scope of the analysis and identification of potential alternatives, information, and analyses relevant to the Proposed Action in writing.

Authorities

This document is published pursuant to the National Environmental Policy Act (NEPA) regulations regarding publication of a notice of intent to issue an environmental impact statement (40 CFR 1501.9(d)). This EIS will be prepared to evaluate potential environmental impacts as required by section 102(2)(C) of the National Environmental Policy Act of 1969 (NEPA); the Council on Environmental Quality regulations (40 CFR parts 1500 through 1508); and NRCS regulations that implement NEPA in 7 CFR part 650. Watershed planning is authorized under the Watershed Protection and Flood Prevention Act of 1954, as amended, (Pub. L. 83-566) and the Flood Control Act of 1944 (Pub. L. 78-534).

Federal Assistance Program

The title and number of the Federal Assistance Programs, as found in the Assistance Listing,² to which this document applies is 10.904, Watershed Protection and Flood Prevention.

² See https://sam.gov/content/assistance-listings.

Executive Order 12372

Executive Order 12372, “Intergovernmental Review of Federal Programs,” requires consultation with State and local officials that would be directly affected by proposed Federal financial assistance. The objectives of the Executive Order are to foster an intergovernmental partnership and a strengthened federalism, by relying on State and local processes for State and local government coordination and review of proposed Federal financial assistance and direct Federal development. This program is subject to the provisions of Executive Order 12372, which requires intergovernmental consultation with State and local officials.

USDA Non-Discrimination Policy

In accordance with Federal civil rights law and USDA civil rights regulations and policies, USDA, its agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and text telephone) or dial 711 for Telecommunications Relay Service (both voice and text telephone users can initiate this call from any phone). Additionally, program information may be made available in languages other than English.

To file a program discrimination complaint, complete the USDA Program Discrimination Complaint Form, AD-3027, found online at: https://www.usda.gov/oascr/how-to-file-a-program-discrimination-complaint and at any USDA office or write a letter addressed to USDA and provide in the letter all the information requested in the form. To request a copy of the complaint form, call (866) 632-9992. Submit your completed form or letter to USDA by mail to: U.S. Department of Agriculture, Office of the Assistant Secretary for Civil Rights, 1400 Independence Avenue SW, Washington, DC 20250-9410 or email: OAC@usda.gov.

USDA is an equal opportunity provider, employer, and lender.

Keisha Tatem,
Arizona State Conservationist, Natural Resources Conservation Service.

[FR Doc. 2023-03268 Filed 2-15-23; 8:45 am]

BILLING CODE 3410-16-P